DEPARTMENT OF COMMERCE

National Telecommunications and Information Administration

Public Meeting on Third Generation Wireless Systems Deployment in the United States

AGENCY: National Telecommunications and Information Administration, Commerce.

ACTION: Notice of public meeting.

SUMMARY: The National Telecommunications and Information Administration (NTIA) will host a series of public meetings to discuss the deployment of third generation (3G) wireless systems in the United States. The topic of the first meeting will be the plan to select spectrum for third generation wireless systems released by Secretary of Commerce Norman Y. Mineta in accordance with the Executive Memorandum signed by President Clinton on October 13, 2000.

DATES: The first meeting will be held from 2 p.m. to 4 p.m., Thursday, November 2, 2000.

ADDRESSES: The first meeting with be held at the U.S. Department of Commerce, Room 4830, 1401 Constitution Avenue, NW., Washington, DC. The meeting will be open to the public. For updates on this meeting or future meetings, please see NTIA's homepage at <http://www.ntia.doc.gov>.

FOR FURTHER INFORMATION: For further information, please contact Derrick Owens, Office of the Assistant Secretary for Communications and Information, NTIA, telephone: (202) 482-1920; or electronic mail: <dowens@ntia.doc.gov>.

Media enquiries should be directed to the Office of Public Affairs, NTIA, at (202) 482-7002.

SUPPLEMENTARY INFORMATION: On October 13, 2000, President Clinton signed an Executive Memorandum directing federal agencies to work with the Federal Communications Commission (FCC) and the private sector to identify radio spectrum needed for the next generation or so-called “third generation” of wireless communications technology. To meet this goal, the President directed the Secretary of Commerce, among other things, to develop a plan by October 20, 2000, in cooperation with the FCC, the Department of Defense, and other Federal agencies, setting forth the necessary steps that will result in licensing of third generation wireless systems by September 30, 2002. The President also directed the Secretary of Commerce to work cooperatively with the FCC to lead a government-industry effort, through a series of regular public meetings and workshops, to develop recommendations and plans for identifying spectrum for third generation wireless systems consistent with the basic principles adopted at the World Radio Conference 2000.

On October 20, 2000, Secretary of Commerce Norman Y. Mineta released the required plan (3G Plan) and announced that he had asked the Assistant Secretary for Communication and Information, Gregory L. Rohde, to host along with the FCC, a public meeting of key Federal agencies and interested industry representatives to discuss the plan. The Secretary also announced that NTIA will arrange further meetings to brief and discuss the planned interim and final reports, industry plans for third generation wireless services, and other issues surrounding the selection of spectrum. The President's Executive Memorandum, the Secretary's Statement, and the 3G Plan are available on NTIA's homepage at <http://www.ntia.doc.gov>.

Public Participation

The meeting will be open to the public and is physically accessible to people with disabilities. To facilitate entry into the Department of Commerce building, please have a photo identification and/or a U.S. Government building pass, if applicable. Any member of the public wishing to attend and requiring special services, such as sign language interpretation or other ancillary aids, should contact Derrick Owens at least three (3) days prior to the meeting at telephone: (202) 482-1920, or electronic mail: <dowens@ntia.doc.gov>.

Kathy D. Smith,
Chief Counsel.

[FR Doc. 00-27825 Filed 10-27-00; 8:45 am]

BILLING CODE 3510-60-P